DEPARTMENT OF COMMERCE

International Trade Administration

[A-552-801]

Certain Frozen Fish Fillets from the Socialist Republic of Vietnam: Final Results of the Third New Shipper Reviews

AGENCY: Import Administration, International Trade Administration, Department of Commerce.

SUMMARY: The Department of Commerce (“Department”) is conducting two new shipper reviews of the antidumping duty order on certain frozen fish fillets from the Socialist Republic of Vietnam (“Vietnam”). See Notice of Antidumping Duty Order: Certain Frozen Fish Fillets from the Socialist Republic of Vietnam, 68 FR 47909 (August 12, 2003) (“Order”). These new shipper reviews include Hiep Thanh Seafood Joint Stock Company (“Hiep Thanh”) and Asia Commerce Fisheries Joint Stock Company (“Acomfish”) (collectively, “Respondents”). Based upon our analysis of the comments and information received, we made changes to the dumping margin calculations for the final results. See Memorandum to the File from Alan Ray, Case Analyst, through Alex Villanueva, Program Manager, Final Results Analysis for Hiep Thanh Seafood Joint Stock Company (“Hiep Thanh”) (June 15, 2009); and Memorandum to the File from Emeka Chukwudebe, Case Analyst, through Alex Villanueva, Program Manager, Final Results Analysis for Asia Commerce Fisheries Joint Stock Company (“Acomfish”) (June 15, 2009). The final dumping margins are listed below in the section entitled “Final Results of the Reviews.”

EFFECTIVE DATE: June 22, 2009.

FOR FURTHER INFORMATION CONTACT: Alan Ray or Emeka Chukwudebe, AD/CVD Operations, Office 9, Import Administration, International Trade Administration, U.S. Department of Commerce, 14th Street and Constitution Avenue, NW, Washington, DC 20230; telephone: (202) 482-5403 and (202) 482-0219, respectively.

SUPPLEMENTARY INFORMATION:

Case History

On January 28, 2009, the Department published in the Federal Register the preliminary results of these new shipper reviews of the antidumping duty order on certain frozen fish fillets from Vietnam. See Certain Frozen Fish Fillets From the Socialist Republic of Vietnam: Notice of Preliminary Results of the Third New Shipper Reviews 74 FR 4920 (January 28, 2009) (“Preliminary Results”). Since the Preliminary Results, the following events have occurred.

On April 21, 2009, the Department published the extension of the time limit for completion of the final results of these new shipper reviews by 60 days. See Certain Frozen Fish Fillets from the Socialist Republic of Vietnam: Extension of Time Limit for Final Results of the Third New Shipper Reviews, 74 FR 18199, (April 21, 2009).

On March 11, 2009, the Department placed additional information on the record. Catfish Farmers of America and individual U.S. catfish processors (“Petitioners”) and Respondents submitted comments and rebuttal comments regarding this additional information on March 25, 2009 and April 6, 2009, respectively. On April 20, 2009, Petitioners and Respondents submitted case briefs, and on April 27, 2009, Petitioners and Respondents submitted rebuttal briefs. On June 2, 2009, the Department allowed Respondents to comment on a revised fish size calculation placed on the record by Petitioners. On June 4, 2009, Respondents submitted comments. On June 10, 2009, Petitioners requested that the Respondents' June 4, 2009, comments be removed from the record.

Scope of the Order

The product covered by the order is frozen fish fillets, including regular, shank, and strip fillets and portions thereof, whether or not breaded or marinated, of the species Pangasius Bocourti, Pangasius Hypophthalmus (also known as Pangasius Pangasius), and Pangasius Micronemus. Frozen fish fillets are lengthwise cuts of whole fish. The fillet products covered by the scope include boneless fillets with the belly flap intact (“regular” fillets), boneless fillets with the belly flap removed (“shank” fillets), boneless shank fillets cut into strips (“fillet strips/finger”), which include fillets cut into strips, chunks, blocks, skewers, or any other shape. Specifically excluded from the scope are frozen whole fish (whether or not dressed), frozen steaks, and frozen belly-flap nuggets. Frozen whole dressed fish are deheaded, skinned, and eviscerated. Steaks are bone-in, cross-section cuts of dressed fish. Nuggets are the belly-flaps.

The subject merchandise will be hereinafter referred to as frozen “basa” and “tra” fillets, which are the Vietnamese common names for these species of fish. These products are classifiable under tariff article codes 1604.19.4000, 1604.19.5000, 0305.59.4000, 0304.29.6033 (Frozen Fish Fillets of the species Pangasius including basa and tra) of the Harmonized Tariff Schedule of the United States (“HTSUS”).¹ The order covers all frozen fish fillets meeting the above specification, regardless of tariff classification. Although the HTSUS subheading is provided for convenience and customs purposes, our written description of the scope of the order is dispositive.

¹ Until July, 2004, these products were classifiable under tariff article codes 0304.20.60.30 (Frozen Catfish Fillets), 0304.20.60.96 (Frozen Fish Fillets, NESOI), 0304.20.60.43 (Frozen Freshwater Fish Fillets) and 0304.20.60.57 (Frozen Sole Fillets) of the HTSUS. Until February 1, 2007, these products were classifiable under tariff article code 0304.20.60.33 (Frozen Fish Fillets of the species Pangasius including basa and tra) of the HTSUS.

Analysis of Comments Received

All issues raised in the case and rebuttal briefs by parties to this proceeding and to which we have responded are listed in the Appendix to this notice and addressed in the Issues and Decision Memorandum (“Final Decision Memo”), which is hereby adopted by this notice. Parties can find a complete discussion of the issues raised in these new shipper reviews and the corresponding recommendations in this public memorandum which is on file in the Central Records Unit (“CRU”), room 1117 of the main Department of Commerce building. In addition, a copy of the Final Decision Memo can be accessed directly on our website at http://ia.ita.doc.gov/. The paper copy and electronic version of the Final Decision Memo are identical in content.

Changes Since the Preliminary Results

Based on a review of the record as well as comments received from parties regarding our Preliminary Results, we have made revisions to the margin calculation for Hiep Thanh and Acomfish in the final results. For all changes to the calculations of Hiep Thanh and Acomfish, see the Final Decision Memo and company specific analysis memoranda. For changes to the surrogate values see Memorandum to the File, through Alex Villanueva, Program Manager, AC/CVD Operations, Office 9, from Alan Ray, case analyst, AD/CVD Operations, Office 9, and Fourth Antidumping Duty Third New Shipper Review of Certain Frozen Fish Fillets from the Socialist Republic of Vietnam: Surrogate Values for the Final Results.

Final Results of the Reviews

The weighted-average dumping margins for the POR are as follows:

Certain Frozen Fish Fillets from Vietnam
Manufacturer/Exporter | Weighted-Average Margin
Hiep Thanh | 6.68
Acomfish | 0.00

Assessment

The Department will determine, and U.S. Customs and Border Protection (“CBP”) shall assess, antidumping duties on all appropriate entries, pursuant to 19 CFR 351.212(b). We have calculated importer-specific duty assessment rates on a per-unit basis. Specifically, we divided the total dumping margins (calculated as the difference between normal value and export price or constructed export price) for each importer by the total quantity of subject merchandise sold to that importer during the POR to calculate a per-unit assessment amount. In this and future reviews, we will direct CBP to assess importer-specific assessment rates based on the resulting per-unit (i.e., per-kilogram) rates by the weight in kilograms of each entry of the subject merchandise during the POR. The Department intends to issue appropriate assessment instructions directly to CBP 15 days after publication of the final results of these new shipper reviews.

Cash Deposit Requirements

The following cash deposit requirements will be effective upon publication of these final results of these new shipper reviews for all shipments of subject merchandise by Hiep Thanh and Acomfish, entered, or withdrawn from warehouse, for consumption on or after the publication date, as provided by section 751(a)(2)(C) of the Tariff Act of 1930, as amended (“Act”): (1) for subject merchandise produced and exported by Hiep Thanh, the cash deposit rate will be the percent listed above, or the equivalent per-unit rate, for subject merchandise produced and exported by Acomfish, the cash deposit rate will be zero; (2) for subject merchandise exported by Hiep Thanh or Acomfish, but not manufactured by Hiep Thanh or Acomfish, the cash deposit rate will continue to be the Vietnam-wide rate of 63.88 percent; and (3) for subject merchandise manufactured by Hiep Thanh or Acomfish, but exported by any party other than Hiep Thanh or Acomfish, the cash deposit rate will be the rate applicable to the exporter. These cash deposit requirements will remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination in accordance with sections 751(a)(2)(B) and 777(i) of the Act, and 19 CFR 351.214(h) and 351.221(b)(5).

Dated: June 15, 2009.
Ronald K. Lorentzen,
Acting Assistant Secretary for Import Administration.

Appendix I Decision Memorandum

COMMENT 1: SURROGATE FINANCIAL RATIOS

A. Apex² and Bionic³

² Apex Foods Ltd. (“Apex”).

³ Bionic Sea Food (“Bionic”).

B. Gemini⁴

⁴ Gemini Sea Food Ltd. (“Gemini”).

COMMENT 2: SURROGATE VALUE FOR WHOLE LIVE FISH

COMMENT 3: RESCISSION OF ACOMFISH

COMMENT 4: HIEP THANH'S SALES TO COMPANY 1

COMMENT 5: HIEP THAN'S SALES TO COMPANY 2

COMMENT 6: ASSESSMENT OF DUTIES FOR HIEP THANH

[FR Doc. E9-14607 Filed 6-19-09; 8:45 am]

BILLING CODE 3510-DS-S